FEDERAL COMMUNICATIONS COMMISSION

47 CFR Part 73

[GN Docket No. 12-268; FCC 14-50]

Expanding the Economic and Innovation Opportunities of Spectrum Through Incentive Auctions

AGENCY: Federal Communications Commission.

ACTION: Final rule; announcement of effective date.

SUMMARY: In this document, the Federal Communications Commission (Commission) announces that the Office of Management and Budget (OMB) has approved, for a period of three years, certain information collection requirements associated with the Commission's Expanding the Economic and Innovation Opportunities of Spectrum Through Incentive Auctions Report and Order (Incentive Auction Report and Order), FCC 14-50. This document is consistent with the Incentive Auction Report and Order, which stated that the Commission would publish a document in the Federal Register announcing OMB approval and the effective date of the new information collection requirements.

DATES: 47 CFR 73.3700(e)(2) through (6) and FCC Form 2100, Schedule 399, published at 79 FR 48442, August 15, 2014, are effective March 24, 2016.

FOR FURTHER INFORMATION CONTACT: For additional information contact Cathy Williams, Cathy.Williams@fcc.gov, (202) 418-2918.

SUPPLEMENTARY INFORMATION: This document announces that, on March 17, 2016, OMB approved the information collection requirements contained in the Commission's Incentive Auction Report and Order, FCC 14-50, published at 79 FR 48442, August 15, 2014. The OMB Control Number is 3060-1178. The Commission publishes this document as an announcement of the effective date of the requirements. If you have any comments on the burden estimates listed below, or how the Commission can improve the collections and reduce any burdens caused thereby, please contact Cathy Williams, Federal Communications Commission, Room 1-C823, 445 12th Street SW., Washington, DC 20554. Please include the OMB Control Number, 3060-1194, in your correspondence. The Commission will also accept your comments via the Internet if you send them to PRA@fcc.gov.

To request materials in accessible formats for people with disabilities (Braille, large print, electronic files, audio format), send an email to fcc504@fcc.gov or call the Consumer and Governmental Affairs Bureau at (202) 418-0530 (voice), (202) 418-0432 (TTY).

Synopsis

As required by the Paperwork Reduction Act of 1995 (44 U.S.C. 3507), the FCC is notifying the public that it received OMB approval on March 17, 2016, for the information collection requirements contained in 47 CFR 73.3700(e)(2) through (6).

Under 5 CFR 1320, an agency may not conduct or sponsor a collection of information unless it displays a current, valid OMB Control Number.

No person shall be subject to any penalty for failing to comply with a collection of information subject to the Paperwork Reduction Act that does not display a current, valid OMB Control Number. The OMB Control Number is 3060-1178. The foregoing document is required by the Paperwork Reduction Act of 1995, Public Law 104-13, October 1, 1995, and 44 U.S.C. 3507.

The total annual reporting burdens and costs for the respondents are as follows:

OMB Control Number: 3060-1178.

OMB Approval Date: March 17, 2016.

OMB Expiration Date: March 31, 2019.

Title: TV Broadcaster Relocation Fund Reimbursement Form, FCC Form 2100, Schedule 399, Section 73.3700(e), Reimbursement Rules.

Form Number: FCC Form 2100, Schedule 399.

Respondents: Business or other for-profit entities; Not-for-profit institutions.

Number of Respondents and Responses: 1,900 respondents and 22,800 responses.

Estimated Hours per Response: 1-4 hours.

Frequency of Response: One-time reporting requirement; on occasion reporting requirement.

Total Annual Burden: 31,000 hours.

Total Annual Costs: $5,625,000.

Obligation to Respond: Required to obtain or retain benefits. The statutory authority for this collection is contained in 47 U.S.C. 151, 154(i), 157 and 309(j) as amended; and Middle Class Tax Relief and Job Creation Act of 2012, Public Law 112-96, §§ 6402 (codified at 47 U.S.C. 309(j)(8)(G)), 6403 (codified at 47 U.S.C. 1452), 126 Stat. 156 (2012) (Spectrum Act).

Nature and Extent of Confidentiality: There is some need for confidentiality with this collection of information. Invoices, receipts, contracts and other cost documentation submitted along with the form will be kept confidential in order to protect the identification of vendors and the terms of private contracts between parties. Vendor name and Employer Identification Numbers (EIN) or Taxpayer Identification Number (TIN) will not be disclosed to the public.

Privacy Impact Assessment: No impact(s).

Needs and Uses: The collection was submitted to the Office of Management (OMB) and approved for the information collection requirements contained in the Commission's Incentive Auction Order, FCC 14-50, which adopted rules for holding an Incentive Auction, as required by the Middle Class Tax Relief and Job Creation Act of 2012 (Spectrum Act). The information gathered in this collection will be used to provide reimbursement to television broadcast stations that are relocated to a new channel following the Federal Communications Commission's Incentive Auction, and to multichannel video programming distributors (MVDPs) that incur costs in carrying the signal of relocated television broadcast stations. Relocated television broadcasters and MVPDs (“eligible entities”) will be reimbursed for their reasonable costs incurred as a result of relocation from the TV Broadcaster Relocation Fund. Eligible entities will use the TV Broadcaster Relocation Fund Reimbursement Form (FCC Form 2100, Schedule 399) to submit an estimate of their eligible relocation costs; to submit actual cost documentation (such as receipts and invoices) throughout the construction period, as they incur expenses; and to account for the total expenses incurred at the end of the project.

Federal Communications Commission.
Marlene H. Dortch,
Secretary, Office of the Secretary.

[FR Doc. 2016-06685 Filed 3-23-16; 8:45 am]

BILLING CODE 6712-01-P